DEPARTMENT OF LABOR

Occupational Safety and Health Administration

[Docket No. ICR 1218-0011(2005)]

Subpart A (“General Provisions”) and Subpart B (“Confined and Enclosed Spaces and Other Dangerous Atmospheres in Shipyard Employment”) of 29 CFR Part 1915; Extension of the Office of Management and Budget's (OMB) Approval of Information Collection (Paperwork) Requirements

AGENCY: Occupational Safety and Health Administration (OSHA), Labor.

ACTION: Request for public comment.

SUMMARY: OSHA solicits public comment concerning its request for an extension of the information collection requirements contained in 29 CFR part 1915, subpart A (“General Provisions”) and subpart B (“Confined and Enclosed Spaces and Other Dangerous Atmospheres in Shipyard Employment”).

DATES: Comments must be submitted by the following dates:

Hard copy: Your comments must be submitted (postmarked or received) by May 31, 2005.

Facsimile and electronic transmission: Your comments must be received by May 31, 2005.

ADDRESSES: You may submit comments, identified by OSHA Docket No. ICR-1218-0011(2005), by any of the following methods:

Regular mail, express delivery, hand delivery, and messenger service: Submit your comments and attachments to the OSHA Docket Office, Room N-2625, U.S. Department of Labor, 200 Constitution Avenue, NW., Washington, DC 20210; telephone (202) 693-2350 (OSHA's TTY number is (877) 889-5627). OSHA Docket Office and Department of Labor hours are 8:15 a.m. to 4:45 p.m., ET.

Facsimile: If your comments are 10 pages or fewer in length, including attachments, you may fax them to the OSHA Docket Office at (202) 693-1648.

Electronic: You may submit comments through the Internet at http://ecomments.osha.gov. Follow instructions on the OSHA Web page for submitting comments.

Docket: For access to the docket to read or download comments or background materials, such as the complete Information Collection Request (ICR) (containing the Supporting Statement, OMB-83-I Form, and attachments), go to OSHA's Web page at http://www.OSHA.gov. In addition, the ICR, comments and submissions are available for inspection and copying at the OSHA Docket Office at the address above. You may also contact Theda Kenney at the address below to obtain a copy of the ICR. For additional information on submitting comments, please see the “Public Participation” heading in the SUPPLEMENTARY INFORMATION section of this document.

FOR FURTHER INFORMATION CONTACT: Theda Kenney or Todd Owen, Directorate of Standards and Guidance, OSHA, Room N-3609, 200 Constitution Avenue, NW., Washington, DC 20210, telephone: (202) 693-222.

SUPPLEMENTARY INFORMATION:

I. Background

The Department of Labor, as part of its continuing effort to reduce paperwork and respondent (i.e., employer) burden, conducts a preclearance consultation program to provide the public with an opportunity to commet on proposed and continuing information collection requirements in accordance with the Paperwork Reduction Act of 1995 (PRA-95) (44 U.S.C. 3506(c)(2)(A)).

This program ensures that information is in the desired format, reporting burden (time and costs ) is minimal, collection instruments are clearly understood, and OSHA's estimate of the information collection burden is accurate. The Occupational Safety and Health Act of 1970 (the Act) (29 U.S.C. 651 et seq.) authorizes information collection by employers as necessary or approprate for enforcement of the Act or for developing information regarding the causes and prevention of occupational injuries, illnesses, and accidents (29 U.S.C. 657).

The following is a brief description of the requirements in subparts A and B that pertain to the collection and retention of information:

General Provisions (Part 1915 Subpart A)

Competent Person (§ 1915.7)

Designation (§ 1915.7(b)); and Recordkeeping (§ 1915.7(d)). Paragraph (b)(2) states that employers must designate one or more competent persons to perform required inspections and tests, unless a Marine Chemist will do so. The paragraph also requires that employers maintain a roster of designated competent persons or a statement that a Marine Chemist will perform all required inspections and tests. In addition, employers are to ensure that the rosters contain, at a minimum, the employer's name, the name of the designated competent persons, and the date the employee completed traiing as a competent person.¹ If requested, employers must make the roster or statement available to employees, their representatives, OSHA compliance officers, and representatives from the National Institute for Occupational Safety and Health (NIOSH).

¹ Subpart A contains no training requirements for competent persons.

Paragraph (d)(1) specifies that employers ensure that competent person, Marine Chemists, and CIHs make a record of each inspection and thest they conduct. The Record of the inspection or test must contain the employer's location; time, date, location of the inspected space; the operatiosn performed; test results; and any instructions. Paragraph (d)(2) requires that employers must post the record in the immediate vicinity of the inspected space while employees are working in the space. Employers must maintain the record in a file for at least three months after work int he space is complete. In addition, paragraph (d)(3) provides that employers make inspection and test records avaiable, upon request, to employees, their representatives, OSHA compliance officers, and NIOSH.

Confined and Enclosed Spaces and Other Dangerous Atmospheres in Shipyard Employment (Part 1915 Subpart B)

(A) Precautions and the Order of Testing Before Entering Confrined and Enclosed Spaces and Other Dangerous Atmosphers (§ 1915.12)

Oxygen Content (§ 1915.12(a)(1) and (a) (2)); Flammable Atmospheres (§ 1915.12(b)(1) and (b)(2)); and Toxic, Corrosive, Irritant or Fumigated Atmospheres and Residues (§ 1915.12(c)(1), (c)(2), and (c)(3)). Before an employee initially enters a space, paragraph (a)(1) requires employers to ensure that a competent person visually inspects and tests it to determine its atmospheric oxygen content. Spaces submit to this requirement include:

• Sealed spaces such as, but not limited to, coated and closed-up spaces and freshly painted non-ventilated spaces;

• Spaces that contain materials or residues of material that can cause it to become oxygen deficient; spaces and adjacent spaces that contain or have contained combustible or flammable liquids or gases, or that contain or previously contained toxic, corrosive, or irritant liquids, gases, or solids; and

• Fumigated spaces and adjacent spaces and spaces containing materials or residues that create an oxygen-deficient atmosphere.

If the space has an oxygen-deficient atmosphere, paragraph (a)(2) specifies that employers must label the space “Not Safe for Workers.” For oxygen-enriched spaces, the label must read “Not Safe for Workers—Not Safe for Hot Work.” Employers must ventilate these spaces with a sufficient volume and flow rate to maintain the oxygen content at or above 19.5 percent and below 22.0 percent by volume, at which point they may remove the warning label.

Under paragraph (b)(1), employers must have a competent person visually inspect a space or adjacent space for combustible or flammable liquids or gases. If such liquids or gases are present, the competent person must test the atmospheric concentration prior to employee entry. If the concentration is equal to or greater than 10 percent of the lower explosive limit (LEL), paragraph (b)(2) specifies that the employer must label the space “Not Safe for Workers—Not Safe for Hot Work.” Employers must provide ventilation at a volume and flow rate that maintains the concentration of flammable vapors below 10 percent of the LEL; the employer may remove the warning label when the vapors reach this level.

Paragraph (c)(1) mandates that if a space or adjacent space contains or previously contained liquids, gases, or solids that are toxic, corrosive, or cause irritation, employers have a competent person visually inspect the space to determine whether these substances are present. If so, the competent person must test the atmospheric concentration before an employee enters the space. Under paragraph (c)(2), employers must label the space “Not Safe for Workers” if the air concentration of these substances exceeds the permissible exposure level (PEL) specified by 29 CFR 1915, subpart Z (“Toxic and Hazardous Substances”), or is immediately dangerous to life or health (IDLH).² Employers must provide a sufficient ventilation volume and flow rate to maintain the atmospheric concentration at or below the PEL or below the IDLH if there is no PEL, after which they may remove the warning labels. Paragraph (c)(3) specifies that if, after ventilation, the concentrations are not at or below the PEL or below the IDLH employers have a Marine Chemist or CIH retest the space until they can certify it as “Enter with Restrictions”) ³ or “Safe for Workers.”

² Paragraph (b) of § 1915.11 (“Scope, application and definitions applicable to this subpart”) defines IDLH as “an atmosphere that poses an immediate threat to life or that is likely to result in acute or immediate severe health effects.”

³ As defined under § 1915.11(b), the term “enter with restrictions” means “[denoting] a space where entry for work is permitted only if engineering controls, personal protective equipment, clothing, and time limitations are as specified by the Marine Chemist, Certified Industrial Hygienist, or the shipyard competent person.”

Training of Employees Entering Confined and Enclosed Spaces or Other Dangerous Atmospheres and Training Certification Records (§ 1915.12(d)). Paragraphs (d)(1) through (d)(4) require employers to train employees who enter a confined and enclosed space or other dangerous atmospheres so they can perform their duties safely. Employees must receive the required training before they begin to work in the space, and if a change in operations or their duties results in a new hazard not previously addressed by the training. Employers must train employees to recognize the characteristics of the confined space; anticipate and be aware of the hazards that may be present in the space; recognize the adverse health effects that these hazards may cause; understand the physical signs and reactions that may result from exposure to these hazards; know what personal protective equipment is needed for safe entry in and exit from the space; and be aware of and know the proper use of barriers that may be needed to protect employees from the hazards. In addition, paragraph (d)(3) specifies that employees be trained to exit the space if the employer or employer representative orders an evacuation, an evacuation signal or alarm is activated, or the employee perceives there is a dangerous condition.

Under paragraph (d)(5), employers must certify that each employee received the required training. The certification is to contain the employee's name, the name of the certifier, and the certification date, and be available for inspection by OSHA compliance officers, NIOSH, and employees and their representatives.

Rescue Teams (§ 1915.12(e)). Under paragraph (e), employers must establish a shipyard rescue team, or arrange for an outside rescue team that will respond promptly to the employer's request for rescue service. For shipyard-based rescue teams, paragraph (e)(1) specifies that employers must provide and train team members to use personal protective equipment necessary to make a rescue, train each team member to perform his/her rescue functions, ensure that the team practices its skills at least once a year,⁴ and have at least one person on a team maintain current first aid certification.⁵ If employers use an outside rescue team, paragraph (e)(2) requires them to inform the members of the team of the hazards they may encounter when called to rescue employees from confined and enclosed spaces or other dangerous atmospheres at the shipyard facility.

⁴ During practice drills, team members must do rescue simulations using mannequins and rescue equipment involving physical facilities that closely approximate the facilities from which they may make a rescue.

⁵ Including maintenance of an airway, control of bleeding, maintenance of circulation, and cardiopulmonary resuscitation (CPR) skills.

Exchanging Hazard Information Between Employers (§ 1915.12(f)). If an employer has employees who work in confined and enclosed spaces or other dangerous atmospheres, this paragraph requires the employer to inform other employers whose employees may enter the same space about the hazards, safety rules, and emergency procedures concerning those spaces and atmospheres.

(B) Cleaning and Other Cold Work (§ 1915.13)

Requirements for Performing Cleaning and Cold Work (§ 1915.12(b)(10)). Paragraph (b)(2) requires that a competent person test the concentration of flammable, combustible, toxic, corrosive or irritant vapors within the confined or enclosed space prior to employees beginning cleaning or cold work. Paragraph (b)(3) specifies that continuous ventilation must be provided at volumes and flow rates that ensure that the concentration of flammable vapor is maintained below 10 percent of the LEL, and toxic, corrosive or irritant vapors are maintained within the PELs and below IDLH levels. Paragraph (b)(4) requires that the competent person also conduct testing as often as necessary during cleaning or cold work to ensure that air concentrations remain at the levels specified in paragraph (b)(3).

Paragraph (b)(7) requires that the competent person test ventilation discharge areas and other areas where discharge vapors may collect to determine whether those vapors are accumulating in concentrations that are hazardous to employees. If accumulations are hazardous, all work in the contaminated areas must be stopped until the vapors have dissipated or been removed.

Paragraph (b)(10) requires that employers post signs in a prominent location prohibiting sources of ignition within or near a space that previously contained flammable or combustible liquids or gases in bulk quantities. Employers must post these signs at the entrance to the space, in adjacent spaces, and in the open area adjacent to these spaces.

(C) Hot Work (§ 1915.14)

Hot Work Requiring Testing by a Marine Chemist or Coast Guard Authorized Person (§ 1915.14(a)(1) and (a)(2)). Under paragraph (a)(1), employers must have a Marine Chemist or a U.S. Coast Guard authorized person test and certify a work area as safe for hot work if the area is in or on any of the following confined and enclosed spaces and other dangerous atmospheres, boundaries of spaces, or pipelines: Within, on, or immediately adjacent to spaces that contain or previously contained combustible or flammable liquids or gases or fuel tanks that contain or previously contained fuel; or pipelines, heating coils, pump fittings, or other accessories connected to spaces that contain or previously contained fuel.⁶ Under paragraph (a)(2), employers must post the certificate in the immediate vicinity of the hot work operation while the operation is in progress. On completion of the operation, they must file the certificate for at least three months.

⁶ The provision specifies an exception for hot work performed on dry cargo, miscellaneous, or passenger vessels and land-side operations in spaces that meet the requirements for oxygen, flammability, and toxicity specified in § 1915.12, but only if the flammable gases or liquids in the adjacent spaces have a flash point below 150° F (65.6° C) and the distance between these spaces and the hot work is at least 15 feet (7.62 m).

Hot Work Requiring Testing by a Competent Person (§ 1915.14(b)(1) and (b)(2). Paragraph (b)(1) specifies that before starting any hot work in or on the following spaces or adjacent spaces or other dangerous atmospheres, employers must have a competent person test and determine that the space does not contain concentrations of flammable vapors equal to or greater than 10 percent of the LEL: Dry cargo holds; bilges; and engine rooms; boiler spaces; vessels and vessel sections; landside confined and enclosed spaces; or other dangerous atmospheres not requiring certification by a Marine Chemist or Coast Guard authorized person. If the concentration of flammable vapors or gases is equal to or greater than 10 percent of the LEL in these or adjacent spaces, paragraph (b)(2) specifies that the employer must label the space “Not Safe for Hot Work.” Employers must provide ventilation in the space at a volume and flow rate that maintains the concentration of flammable vapors below 10 percent of the LEL, after which they may remove the warning label.

(C) Maintenance of Safe Conditions (§ 1915.15)

Alteration of Existing Conditions (§ 1915.15(b)). If a change occurs that may alter the atmospheric conditions within a tested confined or enclosed space or other dangerous atmosphere (e.g., opening a manhole or other closures, adjusting a valve that regulates the flow of hazardous materials), this provision requires employers to stop work in the affected space or work area. Work may resume only after visual inspection and retesting finds that the affected space or work area meets the requirements of the subpart.

Test to Maintain the Conditions of a Marine Chemist's or Coast Guard Authorized Person's Certificates (§ 1915.15(c)). This paragraph requires employers to ensure that a competent person visually inspects and tests each space certified as “Safe for Workers” or “Safe for Hot Work” as often as necessary to ensure that the atmospheric conditions in the space conform to the conditions established by the certificate.

Change in the Conditions of a Marine Chemist's or Coast Guard Authorized Person's Certificates (§ 1915.15(d)). If a competent person finds that the atmospheric conditions in a certified space fail to meet the applicable requirements of the subpart, employers must stop work in the space until a Marine Chemist or Coast guard authorized person retests the space and issues a new certificate.

Tests to Maintain a Competent Person's Findings (§ 1915.156(e)); and Changes in the Conditions Determined by a Competent Person's Findings (§ 1915.15(f)). Paragraph (3) specifies that after a competent person conducts the required initial visual inspection and tests and determines that a space is safe for employee entry, employers must ensure that the required atmospheric conditions are being maintained by having a competent person continue to test and visually inspect the space as often as necessary. Paragraph (f) specifies that if the atmospheric conditions do not meet the requirements of the subpart, employers must stop work in the space until conditions in the space are brought into compliance.

(D) Warning Signs and Labels (§ 1915.16)

This paragraph establishes protocols for preparing the sign and labels required in previous paragraphs.

II. Special Issues for Comment

OSHA has a particular interest in comments on the following issues:

• Whether the purposed information collection requirements are necessary for the proper performance of the Agency's functions, including whether the information is useful;

• The accuracy of OSHA's estimate of the burden (time and costs) of the information collection requirements, including the validity of the methodology and assumptions used;

• The quality, utility, and clarity of the information collected; and

• Ways to minimize the burden on employers who must comply; for example, by using automated or other technological information collection and transmission techniques.

III. Proposed Actions

OSHA proposes to extend the Office of Management and Budget's (OMB) approval of the collection of information (paperwork) requirements necessitated by Subpart A (“General Provisions”) and Subpart B (“Confined and Enclosed Spaces and Other Dangerous Atmospheres in Shipyard Employment”) of 29 CFR part 1915. (The Agency will include this summary in its request to OMB to extend the approval of these collection of information requirements.

Type of Review: Extension of currently approved information collection requirements.

Title: Subpart A (“General Provisions”) and Subpart B (“Confined and Enclosed Spaces and Other Dangerous Atmospheres in Shipyard Employment”) of 29 CFR part 1915.

OMB Number: 1218-0011.

Affected Public: Business or other for-profits; Not-for-profit organizations; Federal Government; State, Local or Tribal Government.

Frequency: On occasion.

Average Time Per Response: Varies from 1 minute (.02 hour) for a secretary to maintain a training certification record to 10 minutes (.17 hour) for a supervisory shipyard production worker to update, maintain and post either the required roster or statement at each shipyard.

Estimated Total Burden Hours: 348,394.

Estimated Cost (Operation and Maintenance): $0.

IV. Public Participation—Submission of Comments on This Notice and Internet Access to Comments and Submissions

You may submit comments and supporting materials in response to this notice by (1) hard copy, (2) FAX transmission (facsimile), or (3) electronically through the OSHA Webpage. Because of security-related problems, there may be a significant delay in the receipt of comments by regular mail. Please contact the OSHA Docket Office at (202) 693-2350 (TTY (877) 889-5627) for information about security procedures concerning the delivery of submissions by express delivery, hand delivery and courier service.

All comments, submissions and background documents are available for inspection and copying at the OSHA Docket Office at the above address. Comments and submissions posted on OSHA's Webpage are available at http://www.OSHA.gov. Contact the OSHA Docket Office for information about materials not available through the OSHA Webpage and for assistance using the Webpage to locate docket submissions.

Electronic copies of the Federal Register notice as well as other relevant documents are available on OSHA's Webpage. Since all submissions become public, private information such as social security numbers should not be submitted.

V. Authority and Signature

Jonathan L. Snare, Acting Assistant Secretary of Labor for Occupational Safety and Health, directed the preparation of this notice. The authority for this notice is the Paperwork Reduction Act of 1995 (44 U.S.C. 3506 et seq.), and Secretary of Labor's Order No. 5-2002 (67 FR 65008).

Signed at Washington, DC, on March 28, 2005.
Jonathan L. Snare,
Acting Assistant Secretary of Labor.

[FR Doc. 05-6487 Filed 3-31-05; 8:45 am]

BILLING CODE 4510-26-M